DEPARTMENT OF THE INTERIOR

Bureau of Land Management

[LLUT925000-L14200000-BJ0000]

Notice of Filing of Plats of Survey; Utah

AGENCY: Bureau of Land Management, Interior.

ACTION: Notice of Filing of Plats of Survey.

SUMMARY: The Bureau of Land Management (BLM) will file plats of survey of the lands described below in the BLM Utah State Office, Salt Lake City, Utah, on September 18, 2013.

FOR FURTHER INFORMATION CONTACT: Daniel W. Webb, Chief Cadastral Surveyor, Bureau of Land Management, Branch of Geographic Sciences, 440 West 200 South, Suite 500, Salt Lake City, Utah 84101-1345, telephone (801) 539-4135, or dwebb@blm.gov. Persons who use a telecommunications device for the deaf (TDD) may call the Federal Information Relay Service (FIRS) at 1-800-877-8339 to leave a message or question for the above individual. The FIRS is available 24 hours a day, seven days a week. Replies are provided during normal business hours.

SUPPLEMENTARY INFORMATION: These surveys were executed at the request of the Bureau of Reclamation and were necessary to delineate property boundaries in the vicinity of the Weber Basin Federal Reclamation Project, Willard Bay Reservoir. The lands surveyed are:

Salt Lake Meridian, Utah

The plat representing T. 7 N., R. 2 W., dependent resurvey and subdivision of sections 3 and 19 was accepted August 7, 2013, Group No. 836, Utah.

The plat representing T. 7 N., R. 3 W., dependent resurvey and subdivision of sections 13 and 24 was accepted August 7, 2013, Group No. 836, Utah.

The plat representing T. 8 N., R. 2 W., dependent resurvey was accepted August 7, 2013, Group No. 836, Utah.

Metes and bounds survey of the Willard Bay Reservoir Boundary Line was accepted August 7, 2013, Group No. 836, Utah.

A copy of the plats and related field notes will be placed in the open files. They will be available for public review in the BLM Utah State Office as a matter of information.

Authority: 43 U.S.C. Chap. 3.

Jenna Whitlock,
Associate State Director.

[FR Doc. 2013-20096 Filed 8-16-13; 8:45 am]

BILLING CODE 4310-DQ-P